FEDERAL COMMUNICATIONS COMMISSION

47 CFR Parts 80, 87 and 95

[DA 14-1286]

Update Mailing Addresses Pertaining to Satellite Emergency Radiobeacons

AGENCY: Federal Communications Commission.

ACTION: Final rule.

SUMMARY: In this document, the Federal Communications Commission (FCC) revises certain mailing addresses pertaining to satellite emergency radiobeacons which are used to facilitate search and rescue of persons in distress. We update the rules to include the correct mailing addresses for the National Oceanographic and Atmospheric Administration's (NOAA) National Beacon Registration Database, the Radio Technical Commission for Maritime Services (RTCM), the Radio Technical Commission for Aeronautics (RTCA), and the United States Coast Guard (Coast Guard). This Order updates the mailing addresses provided in our rules for NOAA, RTCM, RTCA and the Coast Guard.

DATES: Effective December 29, 2014. The incorporation by reference of certain publications listed in the rule was previously approved by the Director of the Federal Register.

ADDRESSES: Federal Communications Commission, 445 12th Street SW., Washington, DC 20554.

FOR FURTHER INFORMATION CONTACT: James Shaffer, Mobility Division, Wireless Telecommunications Bureau, at (202) 418-0687.

SUPPLEMENTARY INFORMATION: This is a summary of the Commission's Order (“Order”) in DA 14-1286 adopted on September 5, 2014, and released on September 5, 2014. The full text of this document is available for inspection and copying during normal business hours in the FCC Reference Center, 445 12th Street SW., Washington, DC 20554. The complete text may be purchased from the Commission's copy contractor, Best Copy and Printing, Inc., 445 12th Street SW., Room CY-B402, Washington, DC 20554. The full text may also be downloaded at: www.fcc.gov. Alternative formats are available to persons with disabilities by sending an email to fcc504@fcc.gov or by calling the Consumer & Governmental Affairs Bureau at 202-418-0530 (voice), 202-418-0432 (tty).

In this Order, the FCC revised 47 CFR 80.7, 80.1061, 87.199 and 95.1402 to update NOAA's address for its National Beacon Registration Database used by beacon owners to register emergency information used during emergencies. We also update RTCM and RTCA addresses used for obtaining technical standards for beacons that part 80 and 87 incorporate by reference. Finally, we update the rules to reflect Coast Guard's new mailing and Internet addresses used for submitting findings by a test facility accepted by the Coast Guard for assuring beacons meet the relevant RTCM technical standard. Updating these mailing addresses will reduce confusion and delay in registering emergency information with NOAA, assure NOAA receives important information from beacon users, reduce confusion and delay in obtaining copies of needed technical standards and reduce confusion and delay in filing test results with the Coast Guard.

Procedural Matters

1. The Bureau adopts this Order pursuant to its delegated authority to “conduct[ ] rulemaking . . . proceedings” in matters pertaining to the licensing and regulation of wireless telecommunications “involving ministerial conforming amendments to rule parts.”

2. The revisions adopted in this Order and set forth in the attached Appendix merely correct the addresses provided in our rules for NOAA and RTCM. These revisions are thus ministerial, non-substantive, and editorial. Accordingly, we find good cause to conclude that notice and comment procedures are unnecessary and would not serve any useful purpose. Because the rule revisions will not affect the substantive rights or interests of any licensee, we also find good cause to make these non-substantive, editorial revisions of the rules effective upon publication in the Federal Register.

3. Because this Order is being adopted without the publication of a notice of proposed rulemaking, the Regulatory Flexibility Act, 5 U.S.C. 601 et seq., does not require the Commission to prepare a regulatory flexibility analysis.

4. This document does not contain new or modified information collection requirements subject to the Paperwork Reduction Act of 1995, Public Law 104-13. In addition, therefore, it does not contain any new or modified information collection burden for small business concerns with fewer than 25 employees, pursuant to the Small Business Paperwork Relief Act of 2002, Public Law 107-198, see 44 U.S.C. 3506(c)(4).

List of Subjects in 47 CFR Parts 80, 87 and 95

Communications equipment, radio, Incorporation by reference.

Federal Communications Commission.
Roger Sherman,
Bureau Chief, Wireless Telecommunications Bureau.

For the reasons discussed in the preamble, the Federal Communications Commission amends 47 CFR parts 80, 87 and 95 as follows:

PART 80—STATIONS IN THE MARITIME SERVICES

1. The authority citation for part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

2. Section 80.7 is amended by revising paragraph (f) introductory text to read as follows:

§ 80.7 Incorporation by reference.

* * * * *

(f) The Radio Technical Commission for Maritime Services (RTCM), 1611 N. Kent Street, Suite 605, Arlington, VA 22209; www.rtcm.org; telephone (703) 527-2000; email information@rtcm.org.

* * * * *

3. Section 80.1061 is amended by revising paragraphs (c) introductory text, (c)(1), (e), and (f) to read as follows:

§ 80.1061 Special requirements for 406.0-406.1 MHz EPIRB stations.

* * * * *

(c) Prior to submitting a certification application for a 406.0-406.1 MHz radiobeacon, the radiobeacon must be certified by a test facility recognized by one of the COSPAS-SARSAT Partners that the equipment satisfies the design characteristics associated with the measurement methods described in COSPAS-SARSAT Standard C/S T.001 (incorporated by reference, see § 80.7), and COSPAS-SARSAT Standard C/S T.007 (incorporated by reference, see § 80.7). Additionally, the radiobeacon must be subjected to the environmental and operational tests associated with the test procedures described in Appendix A of RTCM Standard 11000.2 (incorporated by reference, see § 80.7), by a test facility accepted by the U.S. Coast Guard for this purpose. Information regarding accepted test facilities may be obtained from Commandant (CG-5214), U.S. Coast Guard, 2100 2nd St. SW., Stop 7126, Washington, DC 20593-7126, http://www.uscg.mil.hq/cg5/cg5214/epirbs.asp.

(1) After a 406.0-406.1 MHz EPIRB has been certified by the recognized test facilities the following information must be submitted in duplicate to the Commandant (CG-5214), U.S. Coast Guard, 2100 2nd Street SW., Stop 7126, Washington, DC 20593-7126:

* * * * *

(e) An identification code, issued by the National Oceanic and Atmospheric Administration (NOAA), the United States Program Manager for the 406.0-406.1 MHz COSPAS/SARSAT satellite system, must be programmed in each EPIRB unit to establish a unique identification for each EPIRB station. With each marketable EPIRB unit, the manufacturer or grantee must include a postage pre-paid registration card printed with the EPIRB identification code addressed to: NOAA/SARSAT Beacon Registration, NSOF, E/SPO53, 1315 East West Hwy, Silver Spring, MD 20910-9684. The registration card must request the owner's name, address, telephone number, type of ship, alternate emergency contact and other information as required by NOAA. The registration card must also contain information regarding the availability to register the EPIRB at NOAA's online web-based registration database at: http://www.beaconregistration.noaa.gov. In addition, the following statement must be included: “WARNING—failure to register this EPIRB with NOAA before installation could result in a monetary forfeiture being issued to the owner.”

(f) To enhance protection of life and property it is mandatory that each 406.0-406.1 MHz EPIRB be registered with NOAA before installation and that information be kept up-to-date. Therefore, in addition to the identification plate or label requirements contained in §§ 2.925 and 2.926 of this chapter, each 406.0-406.1 MHz EPIRB must be provided on the outside with a clearly discernible permanent plate or label containing the following statement: “The owner of this 406.0-406.1 MHz EPIRB must register the NOAA identification code contained on this label with the National Oceanic and Atmospheric Administration (NOAA) whose address is: NOAA/SARSAT Beacon Registration, NSOF, E/SPO53, 1315 East West Hwy, Silver Spring, MD 20910-9684.” Vessel owners shall advise NOAA in writing upon change of vessel or EPIRB ownership, transfer of EPIRB to another vessel, or any other change in registration information. NOAA will provide registrants with proof of registration and change of registration postcards.

* * * * *

PART 87—AVIATION SERVICES

4. The authority citation for part 87 continues to read as follows:

Authority: 47 U.S.C. 154, 303 and 307(e), unless otherwise noted.

5. Section 87.199 is amended by revising paragraphs (a), (e), and (f) to read as follows:

§ 87.199 Special requirements for 406.0-406.1 MHz ELTs.

(a) 406.0-406.1 MHz ELTs use G1D emission. Except for the spurious emission limits specified in § 87.139(h), 406.0-406.1 MHz ELTs must meet all the technical and performance standards contained in the Radio Technical Commission for Aeronautics document titled “Minimum Operational Performance Standards 406 MHz Emergency Locator Transmitters (ELT)” Document No. RTCA/DO-204 dated September 29, 1989. The Director of the Federal Register approves this incorporation by reference in accordance with 5 U.S.C 552(a) and 1 CFR part 51. Copies of this standard can be inspected at the Federal Communications Commission, 445 12th Street SW., Washington, DC (Reference Information Center) or at the National Archives and Records Administration (NARA). For information on the availability of this material at NARA, call 202-741-6030, or go to: http://www.archives.gov/federal_register/code_of_federal_regulations/ibr_locations.html. Copies of the RTCA standards also may be obtained from the Radio Technical Commission for Aeronautics, Inc., 1150 18th Street NW., Suite 910, Washington, DC 20036.

* * * * *

(e) An identification code, issued by the National Oceanic and Atmospheric Administration (NOAA), the United States Program Manager for the 406.0-406.1 MHz COSPAS/SARSAT satellite system, must be programmed in each ELT unit to establish a unique identification for each ELT station. With each marketable ELT unit the manufacturer or grantee must include a postage pre-paid registration card printed with the ELT identification code addressed to: NOAA/SARSAT Beacon Registration, NSOF, E/SPO53, 1315 East West Hwy, Silver Spring, MD 20910-9684. The registration card must request the owner's name, address, telephone, type of aircraft, alternate emergency contact, and other information as required by NOAA. The registration card must also contain information regarding the availability to register the ELT at NOAA's online Web-based registration database at: http://www.beaconregistration.noaa.gov. Further, the following statement must be included: “WARNING—failure to register this ELT with NOAA before installation could result in a monetary forfeiture being issued to the owner.”

(f) To enhance protection of life and property, it is mandatory that each 406.0-406.1 MHz ELT must be registered with NOAA before installation and that information be kept up-to-date. In addition to the identification plate or label requirements contained in §§ 2.925 and 2.926 of this chapter, each 406.0-406.1 MHz ELT must be provided on the outside with a clearly discernable permanent plate or label containing the following statement: “The owner of this 406.0-406.1 MHz ELT must register the NOAA identification code contained on this label with the National Oceanic and Atmospheric Administration (NOAA), whose address is: NOAA/SARSAT Beacon Registration, NSOF, E/SPO53, 1315 East West Hwy, Silver Spring, MD 20910-9684.” Aircraft owners shall advise NOAA in writing upon change of aircraft or ELT ownership, or any other change in registration information. Fleet operators must notify NOAA upon transfer of ELT to another aircraft outside of the owner's control, or any other change in registration information. NOAA will provide registrants with proof of registration and change of registration postcards.

* * * * *

PART 95—PERSONAL RADIO SERVICES

6. The authority citation for part 95 continues to read as follows:

Authority: Secs. 4, 303, 48 Stat. 1066, 1082, as amended; 47 U.S.C. 154, 303.

7. Section 95.1402 is amended by revising paragraphs (a), (e), and (f) to read as follows:

§ 95.1402 Special requirements for 406 MHz PLBs.

(a) All 406 MHz PLBs must meet all the technical and performance standards contained in the Radio Technical Commission for Maritime (RTCM) Service document “RTCM Recommended Standards for 406 MHz Satellite Personal Locator Beacons (PLBs),” Version 1.1, RTCM Paper 76-2002/SC110-STD, dated June 19, 2002. This RTCM document is incorporated by reference in accordance with 5 U.S.C. 552(a), and 1 CFR part 51. Copies of the document are available and may be obtained from the Radio Technical Commission for Maritime Services, 1611 N. Kent Street, Suite 605, Arlington, VA 22209; www.rtcm.org; telephone (703) 527-2000; email information@rtcm.org. The document is available for inspection at Commission headquarters at 445 12th Street SW., Washington, DC 20554. Copies may also be inspected at the National Archives and Records Administration (NARA). For information on the availability of this material at NARA, call 202-741-6030, or go to: http://www.archives.gov/federal_register/code_of_federal_regulations/ibr_locations.html.

* * * * *

(e) An identification code, issued by the National Oceanic and Atmospheric Administration (NOAA), the United States Program Manager for the 406 MHz COSPAS/SARSAT satellite system, must be programmed in each PLB unit to establish a unique identification for each PLB station. With each marketable PLB unit, the manufacturer or grantee must include a postage pre-paid registration card printed with the PLB identification code addressed to: NOAA/SARSAT Beacon Registration, NSOF, E/SPO53, 1315 East West Hwy, Silver Spring, MD 20910-9684. The registration card must request the owner's name, address, telephone number, alternate emergency contact and include the following statement: “WARNING—failure to register this PLB with NOAA could result in a monetary forfeiture order being issued to the owner.”

(f) To enhance protection of life and property, it is mandatory that each 406 MHz PLB be registered with NOAA and that information be kept up-to-date. In addition to the identification plate or label requirements contained in §§ 2.925 and 2.926 of this chapter, each 406 MHz PLB must be provided on the outside with a clearly discernable permanent plate or label containing the following statement: “The owner of this 406 MHz PLB must register the NOAA identification code contained on this label with the National Oceanic and Atmospheric Administration (NOAA) whose address is: NOAA/SARSAT Beacon Registration, NSOF, E/SPO53, 1315 East West Hwy, Silver Spring, MD 20910-9684.” Owners shall advise NOAA in writing upon change of PLB ownership, or any other change in registration information. NOAA will provide registrants with proof of registration and change of registration postcards.

* * * * *

[FR Doc. 2014-30381 Filed 12-24-14; 8:45 am]

BILLING CODE 6712-01-P